DEPARTMENT OF HEALTH AND HUMAN SERVICES

Centers for Disease Control and Prevention (CDC)

Safety and Occupational Health Study Section: Notice of Charter Renewal

This gives notice under the Federal Advisory Committee Act (Pub. L. 92-463) of October 6, 1972, that the Safety and Occupational Health Study Section, National Institute for Occupational Safety and Health (NIOSH), of the Department of Health and Human Services, has been renewed for a 2-year period beginning June 30, 2000, through June 30, 2002.

For further information, contact Charles N. Rafferty, NIOSH Scientific Review Administrator,Safety and Occupational Health Study Section, Center for Scientific Review, National Institutes of Health, 6701 Rockledge Drive, Room 4114, MSC 7816, Bethesda, MD 20892 (20817 overnight mail), 301/435-3562 FAX 301/480-2644—Email: Raffertc@csr.nih.gov.

The Director, Management Analysis and Services Office, has been delegated the authority to sign Federal Register notices pertaining to announcements of meetings and other committee management activities for both CDC and the Agency for Toxic Substances and Disease Registry.

Dated: October 4, 2000.
Carolyn J. Russell,
Director, Management Analysis and Services Office, Centers for Disease Control and Prevention.

[FR Doc. 00-26138 Filed 10-11-00; 8:45 am]

BILLING CODE 4163-19-P